ENVIRONMENTAL PROTECTION AGENCY

[ER-FRL-9046-4]

Environmental Impact Statements; Notice of Availability

Responsible Agency: Office of Federal Activities, General Information 202-564-5632 or https://www.epa.gov/ nepa/.

Weekly receipt of Environmental Impact Statements

Filed 08/12/2019 Through 08/16/2019

Pursuant to 40 CFR 1506.9

Notice

Section 309(a) of the Clean Air Act requires that EPA make public its comments on EISs issued by other Federal agencies. EPA's comment letters on EISs are available at: https://cdxnodengn.epa.gov/cdx-enepa-public/action/eis/search.

EIS No. 20190194, Final, NSF, AQ, Continuation and Modernization of McMurdo Station Area Activities, Review Period Ends: 10/15/2019, Contact: Dr. Polly A. Penhale 703-292-7420.

EIS No. 20190195, Final Supplement, BLM, NV, Mount Hope Project Final Supplemental Environmental Impact Statement, Review Period Ends: 09/23/2019, Contact: Kevin Hurrell 775-635-4035.

EIS No. 20190196, Final Supplement, USFS, SC, AP Loblolly Pine Removal and Restoration Project, Review Period Ends: 09/23/2019, Contact: Victor Wyant 864-638-9568.

EIS No. 20190197, Final, FHWA, NV, Interstate 80/Interstate 580/US Highway 395 Freeway-to-Freeway Interchange and Connecting Road Improvements, Contact: Abdelmoez Abdalla 775-687-1231, Pursuant to 23 U.S.C. 139(n)(2), FHWA has issued a combined FEIS and ROD. Therefore, the 30-day wait/review period under NEPA does not apply to this action.

EIS No. 20190198, Draft Supplement, RUS, SC, McClellanville 115 kV Transmission Project, Comment Period Ends: 10/22/2019, Contact: Lauren Rayburn 202-695-2540.

EIS No. 20190199, Final, FHWA, AL, Project No. DPI-0030(005), I-10 Mobile River Bridge and Bayway, Mobile and Baldwin Counties, Alabama, Contact: Mr. Mark D. Barlett, P.E. 334-274-6350, Pursuant to 23 U.S.C. 139(n)(2), FHWA has issued a combined FEIS and ROD. Therefore, the 30-day wait/review period under NEPA does not apply to this action.

EIS No. 20190200, Final, BR, CA, B.F. Sisk Dam Safety of Dams Modification Project, Review Period Ends: 09/23/2019, Contact: Jamie LeFevre 916-978-5035.

EIS No. 20190201, Final, BLM, UT, Grand Staircase-Escalante National Monument-Grand Staircase, Kaiparowits, and Escalante Canyon Units and Federal Lands previously included in the Monument that are excluded from the Boundaries Draft Resource Management Plans and Final Environmental Impact Statement, Review Period Ends: 09/23/2019, Contact: Harry Barber 435-644-1200.

Amended Notice

EIS No. 20190155, Revised Draft, USACE, FL, Lake Okeechobee Watershed Restoration Project Revised Draft Integrated Project Implementation Report and Environmental Impact Statement, Comment Period Ends: 09/03/2019, Contact: Dr. Gretchen Ehlinger 904-232-1682, Revision to FR Notice Published 07/05/2019; Extending the Comment Period from 08/19/2019 to 09/03/2019.

Dated: August 19, 2019.
Robert Tomiak,
Director, Office of Federal Activities.

[FR Doc. 2019-18154 Filed 8-22-19; 8:45 am]

BILLING CODE 6560-50-P